DEPARTMENT OF TRANSPORTATION

Federal Aviation Administration

14 CFR Part 39

[Docket No. 2002-NM-89-AD]

RIN 2120-AA64

Airworthiness Directives; Empresa Brasileira de Aeronautica S.A. (EMBRAER) Model EMB-135 and -145 Series Airplanes

AGENCY: Federal Aviation Administration, DOT.

ACTION: Supplemental notice of proposed rulemaking; reopening of comment period.

SUMMARY: This document revises an earlier proposed airworthiness directive (AD), applicable to certain EMBRAER Model EMB-135 and -145 series airplanes. That AD would have required repetitive inspections for cracks, ruptures, or bends in certain components of the elevator control system, and replacement of discrepant components. This proposal also would have required eventual modification of the elevator gust lock system to replace the mechanical system with an electromechanical system, which would terminate the repetitive inspections. This new action revises the proposed rule by adding requirements for installing a new spring cartridge and implementing new logic for the electromechanical gust lock system. This action is necessary to prevent discrepancies in the elevator control system, which could result in reduced control of the elevator and consequent reduced controllability of the airplane. This action is intended to address the identified unsafe condition.

DATES: Comments must be received by October 18, 2004.

ADDRESSES: Submit comments in triplicate to the Federal Aviation Administration (FAA), Transport Airplane Directorate, ANM-114, Attention: Rules Docket No. 2002-NM-89-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-89-AD” in the subject line and need not be submitted in triplicate. Comments sent via the Internet as attached electronic files must be formatted in Microsoft Word 97 or 2000 or ASCII text.

The service information referenced in the proposed rule may be obtained from Empresa Brasileira de Aeronautica S.A. (EMBRAER), PO Box 343—CEP 12.225, Sao Jose dos Campos—SP, Brazil. This information may be examined at the FAA, Transport Airplane Directorate, 1601 Lind Avenue, SW., Renton, Washington.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-89-AD.” The postcard will be date stamped and returned to the commenter.

Availability of NPRMs

Any person may obtain a copy of this NPRM by submitting a request to the FAA, Transport Airplane Directorate, ANM-114, Attention: Rules Docket No. 2002-NM-89-AD, 1601 Lind Avenue, SW., Renton, Washington 98055-4056.

Discussion

A proposal to amend part 39 of the Federal Aviation Regulations (14 CFR part 39) to add an airworthiness directive (AD), applicable to certain EMBRAER Model EMB-135 and -145 series airplanes, was published as a notice of proposed rulemaking (NPRM) in the Federal Register on January 5, 2004 (69 FR 284). That NPRM would have required repetitive inspections for cracks, ruptures, or bends in certain components of the elevator control system, and replacement of discrepant components. That NPRM also would have required eventual modification of the elevator gust lock system to replace the mechanical system with an electromechanical system, which would terminate the repetitive inspections. That NPRM was prompted by a report that cracks have been found in certain components of the elevator control system in the horizontal stabilizer area of several airplanes equipped with a mechanical gust lock system. That condition, if not corrected, could result in discrepancies in the elevator control system, which could result in reduced control of the elevator and consequent reduced controllability of the airplane.

Explanation of New Relevant Service Information

Since the preparation of the original NPRM, EMBRAER has issued Service Bulletin 145-27-0086, Change 02, dated December 23, 2003. Paragraph (c)(2) of the original NPRM refers to Change 01 of that service bulletin, dated July 3, 2002, as the appropriate source of service information for several actions associated with replacing the mechanical gust lock system with a new electromechanical gust lock system. Part V of Change 02 of that service bulletin describes additional procedures for installing a new spring cartridge and implementing new logic for the electromechanical gust lock system. Change 02 of the service bulletin refers to EMBRAER Service Bulletins 145-27-0101 and 145-27-0102, both dated December 23, 2003, as additional sources of service information for the accomplishment of those actions. The FAA finds that accomplishing these actions will preclude the possibility of components of the spring cartridges unscrewing and allowing the gust lock system to unlock when it is supposed to be locked. Thus, we have added a new paragraph (c)(2)(iv) to this supplemental NPRM.

In addition, EMBRAER has added Parts VI, VII, VIII, and IX to the Accomplishment Instructions of EMBRAER Service Bulletin 145-27-0086, Change 02. These sections apply to airplanes under Joint Airworthiness Authority (JAA) certification and provide procedures similar to those in Parts I, II, III, and IV of the service bulletin. We have revised paragraphs (c)(2)(i), (c)(2)(ii), and (c)(2)(iii) of this supplemental NPRM to include appropriate references to Parts VI, VII, VIII, and IX of the service bulletin.

Conclusion

Since these changes expand the scope of the originally proposed rule, we have determined that it is necessary to reopen the comment period to provide additional opportunity for public comment.

Explanation of the FAA's Determination

The Departmento de Aviacao Civil (DAC), which is the airworthiness authority for Brazil, approved EMBRAER Service Bulletin 145-27-0086, Change 02, but, at this time, does not intend to revise Brazilian airworthiness directive 2002-01-01R3, dated November 8, 2002 (which the original NPRM references as the Brazilian airworthiness directive that parallels the original NPRM). The DAC does not consider it necessary to revise Brazilian airworthiness directive 2002-01-01R3 because that airworthiness directive refers to EMBRAER Service Bulletin 145-27-0086, Revision 1, or further approved revisions, as the acceptable source of service information for certain actions in that airworthiness directive. However, as stated above, we have determined that it is necessary to issue a supplemental NPRM and reopen the comment period to provide additional opportunity for public comment. We have coordinated this issue with the DAC; the DAC does not object to our action.

Cost Impact

We estimate that 300 airplanes of U.S. registry would be affected by this proposed AD.

It would take approximately 1 work hour per airplane, per inspection cycle, to accomplish the proposed inspection, at an average labor rate of $65 per work hour. Based on these figures, the cost impact of the proposed AD on U.S. operators is estimated to be $19,500, or $65 per airplane, per inspection cycle.

For airplanes subject to EMBRAER Service Bulletin 145-27-0075, Change 06, it would take up to 55 work hours to accomplish the proposed modification in that service bulletin, at an average labor rate of $65 per work hour. Required parts would cost up to $9,554 per airplane. Based on these figures, the cost impact of this proposed action is estimated to be up to $13,129 per airplane.

For airplanes subject to EMBRAER Service Bulletin 145-27-0086, Change 02, it would take approximately 133 work hours to accomplish the proposed modification in that service bulletin, at an average labor rate of $65 per work hour. Required parts would cost up to $23,164 per airplane. Based on these figures, the cost impact of this proposed action is estimated to be $31,809 per airplane.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Empresa Brasileira De Aeronautica S.A. (EMBRAER): Docket 2002-NM-89-AD.

Applicability: Model EMB-135 and EMB-145 series airplanes, certificated in any category; serial numbers 145001 through 145189 inclusive, 145191 through 145362 inclusive, 145364 through 145373 inclusive, 145375, 145377 through 145411 inclusive, 145413 through 145424 inclusive, 145426 through 145430 inclusive, 145434 through 145436 inclusive, 145440 through 145445 inclusive, 145448, 145450, and 145801; equipped with a mechanical gust lock system.

Compliance: Required as indicated, unless accomplished previously.

To prevent discrepancies in the elevator control system, which could result in reduced control of the elevator and consequent reduced controllability of the airplane, accomplish the following:

Repetitive Inspections

(a) Within 800 flight hours after the effective date of this AD, do a detailed inspection of the elevator control system for any crack, rupture, or bend in any component, per the Accomplishment Instructions of EMBRAER Service Bulletin 145-27-0087, Change 03, dated September 27, 2002. Where this service bulletin specifies to return discrepant parts and report inspection results to the manufacturer, this AD does not require these actions. Repeat the inspection thereafter at intervals not to exceed 2,500 flight hours or 15 months, whichever is first.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Replacement of Discrepant Parts

(b) If any discrepant part is found during any inspection required by paragraph (a) of this AD, before further flight, replace the discrepant part with a new part having the same part number, per the Accomplishment Instructions of EMBRAER Service Bulletin 145-27-0087, Change 03, dated September 27, 2002.

Modification

(c) Within 10,000 flight hours or 60 months after the effective date of this AD, whichever is first, modify the elevator gust lock by accomplishing paragraph (c)(1) or (c)(2) of this AD, as applicable. This modification terminates the repetitive inspections required by paragraph (a) of this AD.

(1) For airplanes listed in EMBRAER Service Bulletin 145-27-0075, Change 06, dated July 16, 2002: Do paragraph (c)(1)(i) or (c)(1)(ii) of this AD, as applicable.

(i) Replace the mechanical gust lock system with an electromechanical gust lock system, and replace the control stand with a reworked control stand, by doing all the actions (including a detailed inspection to ensure that certain parts have been removed previously per EMBRAER Service Bulletin 145-27-0076) in and per section 3.A. (Part I) or 3.B. (Part II) of the Accomplishment Instructions of the service bulletin, as applicable. If the inspection reveals that certain subject parts have not been removed previously, before further flight, remove the subject parts per the service bulletin. Where Parts I and II of the Accomplishment Instructions of the service bulletin specify to remove and “send the control stand to be reworked in a workshop,” replace the control stand with a control stand reworked as specified in the service bulletin.

(ii) Replace the return spring and spring terminal of the gust lock control lever with improved parts by doing all the actions in and per section 3.C. (Part III) of the Accomplishment Instructions of the service bulletin.

(2) For airplanes listed in EMBRAER Service Bulletin 145-27-0086, Change 02, dated December 23, 2003: Do paragraphs (c)(2)(i), (c)(2)(ii), (c)(2)(iii), and (c)(2)(iv) of this AD, as applicable.

(i) Rework the tail carbon box and the horizontal stabilizer by doing all the actions (including the inspection for delamination) in and per section 3.A. (Part I) or 3.F. (Part VI) of the Accomplishment Instructions of the service bulletin, as applicable. If any delamination is found that is outside the limits specified in the service bulletin, before further flight, repair per a method approved by either the FAA or the Departmento de Aviacao Civil (or its delegated agent).

(ii) Install wiring and electrical components by doing all the actions in and per section 3.B. (Part II) or 3.G. (Part VII) of the Accomplishment Instructions of the service bulletin, as applicable.

(iii) Install and activate the electromechanical gust lock system by doing all actions in section 3.D. (Part IV) or 3.I. (Part IX) of the Accomplishment Instructions of the service bulletin, as applicable. Where Part IV or IX of the Accomplishment Instructions of the service bulletin specifies to remove and “send the control stand to be reworked in a workshop,” replace the control stand with a control stand reworked as specified in Part III or Part VIII of the service bulletin, as applicable.

(iv) Install a new spring cartridge and implement new logic for the electromechanical gust lock system by doing all actions in section 3.E. (Part V) of the Accomplishment Instructions of the service bulletin, as applicable.

Note 2: Part III and Part VIII of the Accomplishment Instructions of EMBRAER Service Bulletin 145-27-0086, Change 02, refer to EMBRAER Service Bulletin 145-22-0007 as an additional source of instructions for accomplishing the rework of the control stand.

Note 3: Part V of the Accomplishment Instructions of EMBRAER Service Bulletin 145-27-0086, Change 02, refers to EMBRAER Service Bulletins 145-27-0101 and 145-27-0102, both dated December 23, 2003, as additional sources of instructions for accomplishing the installation of a new spring cartridge and implementation of the new logic for the electromechanical gust lock system.

Alternative Methods of Compliance

(d) In accordance with 14 CFR 39.19, the Manager, International Branch, ANM-116, Transport Airplane Directorate, FAA, is authorized to approve alternative methods of compliance for this AD.

Note 4: The subject of this AD is addressed in Brazilian airworthiness directive 2002-01-01R3, dated November 8, 2002.

Issued in Renton, Washington, on September 15, 2004.
Ali Bahrami,
Manager, Transport Airplane Directorate, Aircraft Certification Service.

[FR Doc. 04-21273 Filed 9-21-04; 8:45 am]

BILLING CODE 4910-13-P